DEPARTMENT OF TRANSPORTATION

Federal Aviation Administration

14 CFR Part 39

[Docket No. FAA-2012-0886; Directorate Identifier 2008-SW-067-AD]

RIN 2120-AA64

Airworthiness Directives; Agusta S.p.A. Helicopters

AGENCY: Federal Aviation Administration (FAA), DOT.

ACTION: Supplemental notice of proposed rulemaking (SNPRM); reopening of comment period.

SUMMARY: We are revising an earlier notice of proposed rulemaking (NPRM) that proposed to issue an airworthiness directive (AD) for Agusta S.p.A. (Agusta) Model AB139 and AW139 helicopters with a certain wire strike protection system (WSPS) top cable cutter assembly installed. The existing NPRM proposes to require reworking or replacing the top cable cutter assembly to increase clearance between the WSPS and the main rotor (M/R) blades. The NPRM was prompted by a report of in-flight contact between the top cable-cutter assembly and two M/R blades. This action revises the proposals in the NPRM by requiring that the reworked or replaced part be marked with “BT 139-126 Rev./” or “FAA” at the end of the part number to reflect the field modification. Since these actions impose an additional burden over that proposed in the NPRM, we are reopening the comment period to allow the public the chance to comment on these proposed changes.

DATES: We must receive comments on this SNPRM by September 3, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt. For service information identified in this proposed AD, contact Agusta, Via Giovanni Agusta, 520 21017 Cascina Costa di Samarate (VA), Italy, telephone 39 0331-229111, fax 39 0331-229605/222595, or at http://customersupport.agusta.com/technical_advice.php. You may review the referenced service information at the FAA, Office of the Regional Counsel, Southwest Region, 2601 Meacham Blvd., Room 663, Fort Worth, Texas 76137.

FOR FURTHER INFORMATION CONTACT: Sharon Miles, Aviation Safety Engineer, Regulations and Policy Group, Rotorcraft Directorate, FAA, 2601 Meacham Blvd., Fort Worth, TX 76137; telephone (817) 222-5110; email sharon.y.miles@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

On August 16, 2012, we issued an NPRM to amend 14 CFR part 39 to include an AD that would apply to Agusta Model AB139 and AW139 helicopters with a certain WSPS top cable cutter assembly installed. The NPRM was published in the Federal Register on August 29, 2012 (77 FR 52270). The NPRM was prompted by a report of in-flight contact between the top cable-cutter assembly and two M/R blades. Based on this report, the European Aviation Safety Agency (EASA), which is the technical Agent for the member States of the European Union, issued EASA AD No. 2008-0148, dated August 5, 2008. The NPRM proposed to require reworking or replacing the top cable cutter assembly to increase clearance between the WSPS and the M/R blades, which is the same corrective action required by EASA AD No. 2008-0148.

Actions Since Previous NPRM Was Issued

Since we issued the previous NPRM (77 FR 52270, August 29, 2012), we determined that the required actions should include re-identifying the reworked or replaced part by marking “BT 139-126 Rev./” or “FAA” at the end of the part number to reflect the field modification. Because this proposed change expands the scope of the NPRM, we are reopening the comment period to provide additional opportunity for public comment.

Comments

We gave the public the opportunity to comment on the previous NPRM (77 FR 52270, August 29, 2012), but we did not receive any comments.

FAA's Determination

We are proposing this SNPRM because we evaluated all known relevant information and determined that an unsafe condition is likely to exist or develop on other products of these same type designs. Certain changes described above expand the scope of the original NPRM. As a result, we have determined that it is necessary to reopen the comment period to provide additional opportunity for the public to comment on this SNPRM.

Related Service Information

We reviewed Agusta Bollettino Tecnico No. 139-126, dated June 20, 2008 (BT), which applies to Model AB139 and AW139 helicopters with certain serial-numbered WSPSs. The BT specifies, within 200 flight hours, reworking the top cable cutter assembly and marking it with “BT 139-126 Rev./” in a visible and permanent manner. EASA classified this BT as mandatory and issued AD No. 2008-0148 to ensure the continued airworthiness of these helicopters.

Proposed Requirements of the SNPRM

This proposed SNPRM would require:

• Within 200 hours time-in-service, removing the WSPS upper installation,

P/N 4G9540A00111, including cutter assembly, P/N 423-83001-1.

• Before installing a WSPS upper installation, P/N 4G9540A00111, either reworking the top cable cutter assembly, P/N 423-83001-1, and re-identifying the part by adding “BT 139-126 Rev./” or “FAA” to the end of the part number, or replacing the top cable cutter assembly, P/N 423-83001-1, with an airworthy top cable cutter assembly that has been reworked and re-identified.

Costs of Compliance

We estimate that this AD would affect about 39 helicopters of U.S. registry. We also estimate that it would take about 3 work-hours per helicopter to rework the top cable cutter assembly and to add “BT 139-126 Rev./” or “FAA” at the end of the part number, 1 work-hour to replace the top cable cutter assembly, and 1 work-hour to remove the WSPS upper installation. The average labor rate is $85 per work-hour. Required parts would cost about $9,000 per helicopter to replace the cutter. Based on these figures, we estimate the cost of this AD on U.S. operators would be $255 per helicopter to rework the top cable cutter assembly, $9,085 per helicopter to replace the top cable cutter assembly, and $85 per helicopter to remove the WSPS.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Agusta S.p.A. Helicopters: Docket No. FAA-2012-0886; Directorate Identifier 2008-SW-067-AD.

(a) Applicability

This AD applies to Agusta Model AB139 and AW139 helicopters, with a wire strike protection system (WSPS) top cable cutter assembly, part number (P/N) 423-83001-1, installed, which is part of the WSPS, P/N 4G9540F00211 or P/N 4G9540F00311, certificated in any category.

(b) Unsafe Condition

This AD defines the unsafe condition as in-flight contact between the top cable cutter assembly and main rotor (M/R) blades. This condition could result in damage to the M/R blades and subsequent loss of helicopter control.

(c) Comments Due Date

We must receive comments by September 3, 2013.

(d) Compliance

You are responsible for performing each action required by this AD within the specified compliance time unless it has already been accomplished prior to that time.

(e) Required Actions

(1) Within 200 hours time-in-service, remove the WSPS upper installation, P/N 4G9540A00111, including top cable cutter assembly, P/N 423-83001-1.

(2) Before installing a WSPS upper installation, P/N 4G9540A00111, either:

(i) Rework the top cable cutter assembly, P/N 423-83001-1, in accordance with the Compliance Instructions, paragraph 3.1 through 3.5, and Figure 1 of Agusta Bolletino Technico No. 139-126, dated June 20, 2008. Re-identify the top cable cutter assembly in a visible and permanent way by adding “BT 139-126 Rev./” or “FAA” at the end of the part number; or

(ii) Replace the top cable cutter assembly, P/N 423-83001-1, with an airworthy top cable cutter assembly that has been reworked and re-identified in accordance with paragraph (e)(2)(i) of this AD.

(3) Do not install a top cable cutter assembly, P/N 423-83001-1, on any helicopter unless it has been reworked and re-identified in accordance with paragraph (e)(2)(i) of this AD.

(f) Alternative Methods of Compliance (AMOCs)

(1) The Manager, Safety Management Group, FAA, may approve AMOCs for this AD. Send your proposal to: Sharon Miles, Aviation Safety Engineer, Regulations and Policy Group, Rotorcraft Directorate, FAA, 2601 Meacham Blvd., Fort Worth, TX 76137; telephone (817) 222-5110; email sharon.y.miles@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency (EASA) AD No. 2008-0148, dated August 5, 2008. You may view the EASA AD at http://www.regulations.gov by searching for and locating it in Docket No. FAA-2012-0886.

(h) Subject

Joint Aircraft Service Component (JASC) Code: 5320: Fuselage Miscellaneous Structure.

Issued in Fort Worth, Texas, on June 18, 2013.
Kim Smith,
Directorate Manager, Rotorcraft Directorate, Aircraft Certification Service.

[FR Doc. 2013-15951 Filed 7-2-13; 8:45 am]

BILLING CODE 4910-13-P